DEPARTMENT OF COMMERCE

National Institute of Standards and Technology

Notice of Public Meeting—Cloud Computing Forum & Workshop IV

AGENCY: National Institute of Standards and Technology (NIST), Commerce.

ACTION: Notice.

SUMMARY: NIST announces the Cloud Computing Forum & Workshop IV to be held on November 2, 3 and 4, 2011. This workshop will provide information on the U.S. Government (USG) Cloud Computing Technology Roadmap initiative. This workshop will also provide an updated status on NIST efforts to help develop open standards in interoperability, portability and security in cloud computing. This event is open to the public. In addition, NIST invites organizations to participate as Exhibitors as described in the SUPPLEMENTARY INFORMATION section below.

DATES: The Cloud Computing Forum & Workshop IV will be held November 2, 3, and 4, 2011.

ADDRESSES: On the first and second day of the event, November 2 & 3, panel discussions will be held at the National Institute of Standards and Technology, 100 Bureau Drive, Gaithersburg, MD 20899 in the Red Auditorium of the Administration Building, Building 101. The third day, November 4, will feature workshops held at the Crown Plaza, 3 Research Court, Rockville, MD 20850. Please note admittance instructions under the SUPPLEMENTARY INFORMATION section of this notice.

FOR FURTHER INFORMATION CONTACT: To submit a response to this request for exhibitors, and for further information contact Romayne Hines by e-mail at romayne.hines@nist.gov or by phone at (301) 975-4500.

SUPPLEMENTARY INFORMATION: NIST hosted three prior Cloud Computing Forum & Workshop events in May 2010, November 2010, and April 2011. The purpose of these workshops was to respond to the request of the Federal Chief Information Officer to NIST to lead federal efforts on standards for data portability, cloud interoperability, and security. The workshops' goals were to initiate engagement with industry to accelerate the development of cloud standards for interoperability, portability, and security; discuss the Federal Government's experience with cloud computing, report on the status of the NIST Cloud Computing efforts, launch and report progress on the NIST led initiative to collaboratively develop a USG Cloud Computing Technology Roadmap among multiple federal and industrial stakeholders, and to advance a dialogue between these groups.

NIST invites members of the public, especially cloud computing community stakeholders to participate in this event as exhibitors. On November 2 and 3, 2011, space will be available for NIST would like to invite 30 academic, industry, and standards developing organizations to exhibit their respective cloud computing work at a demonstration booth or table which is co-located with the event. Interested organizations should contact Romayne Hines by e-mail at romayne.hines@nist.gov or by phone at (301) 975-4500. Exhibitors will be accepted in the order in which their responses are received. The first 30 organizations which respond will be accepted. Responses must be submitted by an authorized representative of the organization. Logistics information will be provided to accepted exhibitors. NIST will provide the exhibit location space and one work table free of charge. Exhibitors are responsible for the cost of the exhibit, including staffing and materials. NIST reserves the right to exercise its judgment in the placement of exhibits. General building security is supplied; however, exhibitors are responsible for transporting and securing exhibit equipment and materials.

All visitors to the NIST site are required to pre-register to be admitted and have appropriate government-issued photo ID to gain entry to NIST. Anyone wishing to attend this meeting must register at http://www.nist.gov/itl/cloud/cloudworkshopiv.cfm by close of business Wednesday, October 26, 2011.

Dated: October 4, 2011.
Willie E. May,
Associate Director for Laboratory Programs.

[FR Doc. 2011-26024 Filed 10-6-11; 8:45 am]

BILLING CODE 3510-13-P